DEPARTMENT OF AGRICULTURE

Rural Business-Cooperative Service

[DOCKET: RBS-24-NONE-0020]

Notice of Extension of Application Deadline for Biorefinery, Renewable Chemical, and Biobased Product Manufacturing Assistance Program

AGENCY: Rural Business-Cooperative Service, USDA.

ACTION: Notice.

SUMMARY: The Rural Business-Cooperative Service (RBCS, Agency), a Rural Development (RD) agency of the United States Department of Agriculture (USDA) is announcing the extension and re-opening of the Biorefinery, Renewable Chemical, and Biobased Product Manufacturing Assistance Program (9003 Program) loan guarantee application deadline through December 31, 2024 at 4:30 p.m. Eastern Time (ET).

DATES: Complete applications must be submitted by December 31, 2024, at 4:30 p.m. ET.

ADDRESSES: Questions on 9003 Program may be directed to the Rural Business-Cooperative Service, U.S. Department of Agriculture, 1400 Independence Avenue SW, Stop 3225, Washington, DC 20250-3201; telephone (202) 205-2421 or email EnergyPrograms@rd.usda.gov.

FOR FURTHER INFORMATION CONTACT: James Campbell; telephone: (202) 205-2421; or by email: james.campbell3@usda.gov. Program information may be made available in languages other than English.

SUPPLEMENTARY INFORMATION:

Background

The 9003 Biorefinery, Renewable Chemical, and Biobased Product Manufacturing Assistance Program provides loan guarantees up to $250 million to assist in the development, construction, and retrofitting of new and emerging technologies.

Unless otherwise specified by the Agency in a notice published in the Federal Register, application deadlines are typically October 1 and April 1 of each year. If the application deadline falls on a weekend or an observed holiday, the deadline will be the next federal business day. As provided for in 7 CFR 4279.260(b), RBCS, by this notice, is specifying a new application deadline.

With this notice, RBCS is re-opening the October 1 deadline and extending it until 4:30 p.m. ET on December 31, 2024.

Additionally, the Lender or the Borrower generally must submit to the Agency a non-binding letter of intent to apply for loan guarantee not less than 30 calendar days prior to the application deadline. However, RBCS, at its discretion, may accept applications that do not submit a letter of intent as provided for in 7 CFR 4279.260(a)(1).

Kathryn E. Dirksen Londrigan,
Administrator, Rural Business-Cooperative Service.

[FR Doc. 2024-29361 Filed 12-12-24; 8:45 am]

BILLING CODE 3410-XY-P